DEPARTMENT OF AGRICULTURE

Food and Nutrition Service

Child and Adult Care Food Program: National Average Payment Rates, Day Care Home Food Service Payment Rates, and Administrative Reimbursement Rates for Sponsoring Organizations of Day Care Homes for the Period July 1, 2024 Through June 30, 2025

AGENCY: Food and Nutrition Service, Agriculture (USDA).

ACTION: Notice.

SUMMARY: This notice announces the annual adjustments to the national average payment rates for meals and snacks served in child care centers, outside-school-hours care centers, at-risk afterschool care centers, and adult day care centers; the food service payment rates for meals and snacks served in day care homes; and the administrative reimbursement rates for sponsoring organizations of day care homes, to reflect changes in the Consumer Price Index. Further adjustments are made to these rates to reflect the higher costs of providing meals in Alaska, Guam, Hawaii, Puerto Rico, and Virgin Islands. The adjustments contained in this notice are made on an annual basis each July, as required by the laws and regulations governing the Child and Adult Care Food Program.

DATES: These rates are in effect from July 1, 2024 through June 30, 2025.

FOR FURTHER INFORMATION CONTACT: Penny Burke, Branch Chief, Program Monitoring and Operational Support Division, Child Nutrition Programs, FNS USDA, 1320 Braddock Place, Suite 401, Alexandria, Virginia 22314, 303-844-0357.

SUPPLEMENTARY INFORMATION:

Background

Pursuant to sections 4, 11, and 17 of the Richard B. Russell National School Lunch Act (42 U.S.C. 1753, 1759a and 1766), section 4 of the Child Nutrition Act of 1966 (42 U.S.C. 1773) and 7 CFR 226.4, 226.12 and 226.13 of the Program regulations, notice is hereby given of the new payment rates for institutions participating in the Child and Adult Care Food Program. As provided for under the law, all rates in the Child and Adult Care Food Program must be revised annually, on July 1, to reflect changes in the Consumer Price Index (CPI), published by the Bureau of Labor Statistics of the United States Department of Labor, for the most recent 12-month period. These rates are in effect during the period of July 1, 2024 through June 30, 2025.

Adjusted Payments

The following national average payment factors and food service payment rates for meals and snacks are in effect from July 1, 2024 through June 30, 2025. All amounts are expressed in dollars or fractions thereof. Due to a higher cost of living, the reimbursements for Alaska, Guam, Hawaii, Puerto Rico, and Virgin Islands are higher than those for all other States. The District of Columbia uses the figures specified for the contiguous States. These rates do not include the value of USDA Foods or cash-in-lieu of USDA Foods, which institutions receive as additional assistance for each lunch or supper served to participants under the Program. A notice announcing the value of USDA Foods and cash-in-lieu of USDA Foods is published separately in the Federal Register.

Adjustments to the national average payment rates for all meals served under the Child and Adult Care Food Program are rounded down to the nearest whole cent.

National Average Payment Rates for Centers

The changes in the national average payment rates for centers reflect a 4.03 percent increase during the 12-month period from May 2023 to May 2024 (from 352.892 in May 2023, as previously published in the Federal Register, to 367.099 in May 2024) in the Food Away From Home series of the Consumer Price Index for All Urban Consumers.

Payments for breakfasts served are: Contiguous States—paid rate—39 cents (1 cent increase from the 2023-2024 rate), reduced price rate—2 dollar and 7 cents (9 cents increase), free rate—2 dollars and 37 cents (9 cents increase); Alaska—paid rate—60 cents (2 cents increase), reduced price rate—3 dollars and 50 cents (14 cents increase), free rate—3 dollars and 80 cents (14 cents increase); Guam, Hawaii, Puerto Rico and Virgin Islands—paid rate—49 cents (2 cents increase), reduced price rate—2 dollars and 76 cents (11 cents increase), free rate—3 dollars and 6 cents (11 cents increase).

Payments for lunch or supper served are: Contiguous States—paid rate—42 cents (2 cents increase), reduced price rate—4 dollars and 3 cents (18 cents increase), free rate—4 dollars and 43 cents (18 cents increase); Alaska—paid rate—69 cents (3 cents increase), reduced price rate—6 dollars and 78 cents (28 cents increase), free rate—7 dollars and 18 cents (28 cents increase); Guam, Hawaii, Puerto Rico and Virgin Islands—paid rate—55 cents (2 cents increase), reduced price rate—5 dollars and 36 cents (22 cents increase), free rate—5 dollars and 76 cents (22 cents increase).

Payments for snack served are: Contiguous States—paid rate—11 cents (1 cents increase), reduced price rate—60 cents (2 cents increase), free rate—1 dollar and 21 cents (4 cents increase); Alaska—paid rate—18 cents (1 cent increase), reduced price rate—98 cents (4 cent increase), free rate—1 dollar and 97 cents (8 cents increase); Guam, Hawaii, Puerto Rico and Virgin Islands—paid rate—14 cents (1 cents increase), reduced price rate—79 cents (3 cents increase), free rate—1 dollar and 58 cents (6 cents increase).

Food Service Payment Rates for Day Care Homes

The changes in the food service payment rates for day care homes reflect a 1.04 percent increase during the 12-month period from May 2023 to May 2024 (from 302.535 in May 2023, as previously published in the Federal Register, to 305.679 in May 2024) in the Food At Home series of the Consumer Price Index for All Urban Consumers.

Payments for breakfast served are: Contiguous States—Tier I—1 dollar and 66 cents (1 cent increase from the 2023-2024 rate) and Tier II—60 cents (1 cents increase); Alaska—Tier I—2 dollars and 66 cents (3 cents increase) and Tier II—93 cents (1 cent increase); Guam, Hawaii, Puerto Rico and Virgin Islands—Tier I—2 dollar and 14 cents (2 cents increase) and Tier II—76 cents (1 cent increase).

Payments for lunch and supper served are: Contiguous States—Tier I—3 dollars and 15 cents (3 cents increase) and Tier II—1 dollar and 90 cents (2 cents increase); Alaska—Tier I—5 dollars and 10 cents (5 cents increase) and Tier II—3 dollars and 8 cents (3 cents increase); Guam, Hawaii, Puerto Rico and Virgin Islands—Tier I—4 dollars and 9 cents (4 cents increase) and Tier II—2 dollar and 47 cents (3 cents increase).

Payments for snack served are: Contiguous States—Tier I—93 cents (No Change) and Tier II—26 cents (1 cent increase); Alaska—Tier I—1 dollar and 52 cents (2 cents increase) and Tier II—42 cents (1 cent increase); Guam, Hawaii, Puerto Rico and Virgin Islands—Tier I—1 dollar and 22 cents (2 cents increase) and Tier II—33 cents (No Change).

Administrative Reimbursement Rates for Sponsoring Organizations of Day Care Homes

The changes in the administrative reimbursement rates for sponsoring organizations of day care homes reflect a 3.27 percent increase during the 12-month period, May 2023 to May 2024 (from 304.127 in May 2023, as previously published in the Federal Register, to 314.069 in May 2024) in the series for all items of the Consumer Price Index for All Urban Consumers.

Monthly administrative payments to sponsors for each sponsored day care home are: Contiguous States—Initial 50 homes—147 dollars (5 dollar increase from 2023-2024 annual level), next 150 homes—112 dollars (4 dollar increase), next 800 homes—87 dollars (2 dollar increase), each additional home—77 dollars (2 dollar increase); Alaska—Initial 50 homes—238 dollars (8 dollar increase), next 150 homes—181 dollars (5 dollar increase), next 800 homes—142 dollars (5 dollar increase), each additional home—125 dollars (4 dollar increase); Guam, Hawaii, Puerto Rico and Virgin Islands—Initial 50 homes—191 dollars (6 dollar increase), next 150 homes—145 dollars (4 dollar increase), next 800 homes—114 dollars (4 dollar increase), each additional home—100 dollars (3 dollar increase).

Payment Chart

The following chart illustrates the national average payment factors and food service payment rates for meals and snacks in effect from July 1, 2024 through June 30, 2025.

BILLING CODE 3410-30-P

This action is not a rule as defined by the Regulatory Flexibility Act (5 U.S.C. 601-612) and thus is exempt from the provisions of that Act. This notice has been determined to be exempt under Executive Order 12866.

Child and Adult Care Food Program is listed in the Catalog of Federal Domestic Assistance under No. 10.558 and is subject to the provisions of Executive Order 12372, which requires intergovernmental consultation with State and local officials. (See 2 CFR 415.3-415.6).

This notice imposes no new reporting or recordkeeping provisions that are subject to OMB review in accordance with the Paperwork Reduction Act of 1995 (44 U.S.C. 3501-3518).

Authority: Sections 4(b)(2), 11a, 17(c) and 17(f)(3)(B) of the Richard B. Russell National School Lunch Act (42 U.S.C. 1753(b)(2), 1759a, 1766(f)(3)(B) and section 4(b)(1)(B) of the Child Nutrition Act of 1966 (42 U.S.C. 1773(b)(1)(B)).

Cynthia Long,
Administrator, Food and Nutrition Service.

[FR Doc. 2024-15173 Filed 7-9-24; 8:45 am]

BILLING CODE 3410-30-C